DEPARTMENT OF ENERGY

Federal Energy Regulatory Commission

[Project No. 12690-003]

Public Utility District No. 1 of Snohomish County, WA; Notice of Technical Meeting

a. Date, Time and Place of Meeting: Monday, August 6, 2012 starting at 9 a.m. Pacific Time (12 noon Eastern Time) at the Washington Department of Ecology's Northwest Regional Office, 3190 160th Ave. SE., Bellevue, WA 98008-5452.

b. FERC Contact: David Turner, (202) 502-6091 or david.turner@ferc.gov

c. Purpose of Meeting: Explore solutions to issues raised by PC Landing and the Federal Communications Commission regarding the proximity of the proposed Admiralty Inlet Tidal Project to PC Landing's fiber optic communication cable, and discuss the implications and information needs for possible alternative site locations for the hydrokinetic turbines.

d. To obtain the phone number and passcode to participate by telephone, please contact David Turner via email by no later than 5:00 p.m. Eastern Time on Wednesday, August 1, 2012.

Dated: July 19, 2012.
Kimberly D. Bose,
Secretary.

[FR Doc. 2012-18160 Filed 7-24-12; 8:45 am]

BILLING CODE 6717-01-P